DEPARTMENT OF COMMERCE

National Oceanic and Atmospheric Administration

RIN 0648-XG751

Gulf of Mexico Fishery Management Council; Public Meetings

AGENCY: National Marine Fisheries Service (NMFS), National Oceanic and Atmospheric Administration (NOAA), Commerce.

ACTION: Notice; public workshops.

SUMMARY: The Gulf of Mexico Fishery Management Council (Council) will hold eight in-person workshops to inform stakeholders about new reporting requirement for federally permitted for-hire operators in the Gulf of Mexico.

DATES: The public hearings will take place January 24, 2019-March 11, 2019. The meetings will begin at 6 p.m. and will conclude no later than 9 p.m. For specific dates and times, see SUPPLEMENTARY INFORMATION.

ADDRESSES: The public documents can be obtained by contacting the Gulf of Mexico Fishery Management Council, 4107 West Spruce Street, Suite 200, Tampa, FL 33607; (813) 348-1630 or on their website at www.gulfcouncil.org.

Meeting addresses: The workshops will be held in Destin, St. Petersburg, Ft. Myers, Key West, FL; Orange Beach, AL; New Orleans, LA; Biloxi, MS; and Galveston, TX. For specific locations, see SUPPLEMENTARY INFORMATION.

FOR FURTHER INFORMATION CONTACT: Emily Muehlstein, Public Information Officer; Emily.Muehlstein@gulfcouncil.org, Gulf of Mexico Fishery Management Council; telephone: (813) 348-1630.

SUPPLEMENTARY INFORMATION:

Please note: This was previously issued prior to the government shutdown, however, due to the shutdown, it was not able to be published prior to three of the hearings. Although the hearings that have taken place are still listed, this notice is being published for the remaining hearings. The agenda for the following eight in-person workshop are as follows: NOAA staff will brief the public on the purpose and requirements associated with the Generic Amendment to Fishery Management Plans for the Reef Fish and Coastal Migratory Pelagic Resources in the Gulf of Mexico to Modify Charter Vessel and Headboat Reporting Requirements.

Staff will be available to answer any questions, and the public will have the opportunity to provide feedback on the upcoming reporting requirements.

The schedule is as follows:

Locations

Thursday, January 24, 2019; Fish and Wildlife Research Institute, 100 8th Avenue SE, St. Petersburg, FL 33701; telephone: (727) 896-8626.

Monday, January 28, 2019; Orange Beach Community Center, 27235 Canal Road, Orange Beach, AL 36561; telephone: (251) 981-6629.

Friday, February 1, 2019; City of Destin Community Center, 101 Stahlman Avenue, Destin, FL, 32541; telephone: (850) 654-5184.

Tuesday, February 12, 2019; La Quinta Inn & Suites, 2610 Williams Blvd., Kenner, LA 70062; telephone: (504) 446-1401.

Wednesday, February 13, 2019; Mississippi Department of Marine Resources, 1141 Bayview Avenue, Biloxi, MS 39530; telephone: (228) 374-5000.

Monday, February 25, 2019; Galveston Yacht Basin, 715 N. Holiday Drive, Galveston, TX 77550; telephone: (409) 765-3000.

Thursday, March 7, 2019; Harvey Government Center, 1200 Truman Avenue, Key West, FL 33040; telephone: (305) 295-4385.

Monday, March 11, 2019; Hyatt Place Fort Myers at the Forum, 2600 Champion Ring Road, Ft. Myers, FL 33905; telephone: (239) 418-1844.

Special Accommodations

These meetings are physically accessible to people with disabilities. Requests for sign language interpretation or other auxiliary aids should be directed to Kathy Pereira (see ADDRESSES), at least 5 working days prior to the meeting date.

Dated: February 1, 2019.
Karen H. Abrams,
Acting Director, Office of Sustainable Fisheries, National Marine Fisheries Service.

[FR Doc. 2019-01362 Filed 2-6-19; 8:45 am]

BILLING CODE 3510-22-P